DEPARTMENT OF STATE

[Public Notice 10086]

Notice of Public Meeting

The Department of State will conduct an open meeting at 9:30 a.m. on Wednesday, August 30, 2017, in room 7P15-01 of the Douglas A. Munro Coast Guard Headquarters Building at St. Elizabeth's, 2703 Martin Luther King Jr. Avenue SE., Washington, DC 20593. The primary purpose of the meeting is to prepare for the fourth session of the International Maritime Organization's (IMO) Sub-Committee on Carriage of Cargoes and Containers to be held at the IMO Headquarters, United Kingdom, September 11-15, 2017.

The agenda items to be considered include:

—Adoption of the agenda

—Decisions of other IMO bodies

—Amendments to the IGF Code and development of guidelines for low-flashpoint fuels

—Suitability of high manganese austenitic steel for cryogenic service and development of any necessary amendments to the IGC Code and IGF Code

—Amendments to the IMSBC Code and supplements

—Amendments to the IMDG Code and supplements

—Unified interpretations of provisions of IMO safety, security and environment-related conventions

—Consideration of reports of incidents involving dangerous goods or marine pollutants in packaged form on board ships or in port areas

—Biennial status report and provisional agenda for CCC 5

—Election of Chair and Vice-Chair for 2018

—Any other business

—Report to the Committees

Members of the public may attend this meeting up to the seating capacity of the room. Upon request to the meeting coordinator, members of the public may also participate via teleconference, up to the capacity of the teleconference phone line. To access the teleconference line, participants should call (202) 475-4000 and use Participant Code: 887 809 72. To facilitate the building security process, and to request reasonable accommodation, those who plan to attend should contact the meeting coordinator, Dr. Amy Parker, by email at Amy.M.Parker@uscg.mil, by phone at (202) 372-1423, or in writing at 2703 Martin Luther King Jr. Ave. SE., Stop 7509, Washington DC 20593-7509 not later than August 24, 2017, five working days prior to the meeting. Requests made after August 24, 2017 might not be able to be accommodated. Please note that due to security considerations, two valid, government-issued photo identifications must be presented to gain entrance to the Coast Guard Headquarters building. USCG Headquarters is accessible by taxi, public transportation, and privately owned conveyance (upon request).

Joel C. Coito,
Coast Guard Liaison Officer, Office of Ocean and Polar Affairs, Department of State.

[FR Doc. 2017-17111 Filed 8-11-17; 8:45 am]

BILLING CODE 4710-05-P